DEPARTMENT OF LABOR

Employment and Training Administration

[TA-W-55,754A and TA-W-55,754H]

Dan River, Inc., 1325 Avenue of The Americas, New York, NY; Including an Employee of Dan River, Inc., Drexel Hill, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance on November 5, 2004, applicable to workers of Dan River, Inc., 1325 Avenue of The Americas, New York, New York. The notice was published in the Federal Register on December 9, 2004 (69 FR 71429). The certification was amended on February 16, 2005 and October 21, 2005 to include workers at other locations of the subject firm. The notices were published in the Federal Register on March 9, 2005 (70 FR 11700-11701) and November 4, 2005 (70 FR 67198-67199) respectively.

At the request of a company official, the Department reviewed the certification for workers of the subject firm.

New information shows that a worker separation occurred involving an employee of 1325 Avenue of The Americas, New York, New York of Dan River, Inc. located in Drexel Hills, Pennsylvania. Mr. Paul A. Brenner provided support services for the manufacture of home furnishing textiles produced by Dan River, Inc.

Based on these findings, the Department is amending this certification to include an employee of the 1325 Avenue of The Americas, New York, New York facility of Dan River, Inc. located in Drexel Hill, Pennsylvania.

The intent of the Department's certification is to include all workers of Dan River, Inc., 1325 Avenue of The Americas, New York, New York who were affected by a shift in production to China and Mexico.

The amended notice applicable to TA-W-55,754A is hereby issued as follows:

All workers of Dan River, Inc., 1325 Avenue of The Americas, New York, New York (TA-W-55,754A), including an employee of Dan River, Inc., 1325 Avenue of The Americas, New York, New York, located in Drexel Hill, Pennsylvania (TA-W-55,754H), who became totally or partially separated from employment on or after October 8, 2003, through November 5, 2006, are eligible to apply for adjustment assistance under Section 223 of the Trade Act of 1974, and are also eligible to apply for alternative trade adjustment assistance under Section 246 of the Trade Act of 1974.

Signed at Washington, DC this 31st day of March 2006.
Linda G. Poole,
Certifying Officer, Division of Trade Adjustment Assistance.

[FR Doc. E6-5410 Filed 4-11-06; 8:45 am]

BILLING CODE 4510-30-P